DEPARTMENT OF COMMERCE

National Oceanic and Atmospheric Administration

[RTID 0648-XF099]

New England Fishery Management Council; Public Meeting

AGENCY: National Marine Fisheries Service (NMFS), National Oceanic and Atmospheric Administration (NOAA), Commerce.

ACTION: Notice of public meeting.

SUMMARY: The New England Fishery Management Council (Council) is holding a public hybrid meeting of its Scientific and Statistical Committee (SSC) to consider actions affecting New England fisheries in the exclusive economic zone (EEZ). Recommendations from this group will be brought to the full Council for formal consideration and action, if appropriate.

DATES: This meeting will be held on Tuesday, August 19, 2025, beginning at 9 a.m. Webinar Registration information: https://nefmc-org.zoom.us/meeting/register/Nwloyy4dTLaHD8LJQ1LwmA.

ADDRESSES: This meeting is being held at the Courtyard Marriot Boston Logan; 225 McClellan Highway; Boston, MA 02128; Phone: (617) 569-5250.

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

Agenda

The Scientific and Statistical Committee (SSC) will meet to consider the information provided by the Council's Monkfish and Skate Plan Development Teams (PDT) including data updates from the Northeast Fisheries Science Center and recommend the overfishing limits (OFL) and acceptable biological catches (ABC) for: Northern and Southern monkfish for fishing years (FY) 2026-2030 and Northeast skate complex for FY 2026-2030. They will also consider outcomes of the 2025 Atlantic Sea scallop research track assessment and Scallop PDT's recommended approach for developing specifications considering biological reference points; make recommendations for developing specifications to present to the SSC in October. The SSC will also review outcomes of the June 2025 inaugural meeting of the SSC Social Sciences Subcommittee and provide input on the Subcommittee's workplan. Other business will be discussed as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, at 978-465-0492, at least 5 days prior to the meeting date.

Authority: 16 U.S.C. 1801 et seq.

Dated: August 6, 2025.
Rey Israel Marquez,
Acting Deputy Director, Office of Sustainable Fisheries, National Marine Fisheries Service.

[FR Doc. 2025-15118 Filed 8-7-25; 8:45 am]

BILLING CODE 3510-22-P